DEPARTMENT OF THE INTERIOR

Bureau of Reclamation

[DES 09-02]

Aspinall Unit, Colorado River Storage Project, CO

AGENCY: Bureau of Reclamation, Interior.

ACTION: Notice of Availability of Aspinall Unit Operations Draft Environmental Impact Statement.

SUMMARY: The Bureau of Reclamation (Reclamation), the Federal agency responsible for operation of the Aspinall Unit, has prepared and made available to the public a draft environmental impact statement (DEIS) on Aspinall Unit operations pursuant to Section 102(2)(c) of the National Environmental Policy Act of 1969 (NEPA), as amended, 42 U.S.C. 4332.

DATES: A public review period commences with the publication of this notice. Written comments on the DEIS are due by Friday, April 24, 2009, and should be submitted to Steve McCall at the address given below. Public hearings will be held during the month of April in Gunnison and Delta, Colorado. The public hearings schedule is as follows:

• Tuesday, April 7, 2009—6:30 p.m. to 9 p.m.—Gunnison County Fairgrounds, 275 S. Spruce Street, Gunnison, Colorado.

• Wednesday, April 8, 2009—6:30 p.m. to 9 p.m.—Bill Heddles Recreation Center, 530 Gunnison River Drive, Delta, Colorado.

ADDRESSES: Written comments on the DEIS and requests for copies should be addressed to Steve McCall, Bureau of Reclamation, Western Colorado Area Office, 2764 Compass Drive, Suite 106, Grand Junction, Colorado 81506; telephone (970) 248-0638; facsimile (970) 248-0601; e-mail: smccall@uc.usbr.gov. The DEIS is also available on Reclamation's Web site at http://www.usbr.gov/uc/ (click on Environmental Documents).

Copies of the DEIS are available for public review and inspection at the following locations:

• Main Interior Building, Natural Resources Library, Room 1151, 1849 C Street, NW., Washington, DC 20240-0001.

• Bureau of Reclamation, Denver Office Library, Denver Federal Center, Sixth and Kipling, Building 67, Room 167, Denver, Colorado 80225-0007.

• Bureau of Reclamation, Upper Colorado Regional Office, 125 South State Street, Room 7418, Salt Lake City, Utah 84138-1147.

• Bureau of Reclamation, Western Colorado Area Office, 2764 Compass Drive, Suite 106, Grand Junction, Colorado 81506.

Libraries

• Delta County Public Library, Delta, Colorado.

• Mesa County Public Library, Grand Junction, Colorado.

• Montrose County Public Library, Grand Junction, Colorado.

• Gunnison County Library, Gunnison, Colorado.

FOR FURTHER INFORMATION CONTACT: Steve McCall, Bureau of Reclamation, Western Colorado Area Office, 2764 Compass Drive, Suite 106, Grand Junction, Colorado 81506; telephone (970) 248-0638; facsimile (970) 248-0601; e-mail: smccall@uc.usbr.gov.

SUPPLEMENTARY INFORMATION: The DEIS describes the environmental impacts of alternatives to operate the Aspinall Unit to assist in implementing flow recommendations for endangered fish provided by the Upper Colorado River Endangered Fish Recovery Program (Recovery Program). Under the direction of the Recovery Program, Aspinall Unit releases were evaluated beginning in 1992. At the completion of the research, the Recovery Program published the Flow Recommendations to Benefit Endangered Fishes in the Colorado and Gunnison Rivers (McAda, 2003). The recommendations include spring peak and base flow targets for various hydrologic conditions in the Gunnison River Basin.

The purpose of modifying operations of the Aspinall Unit is to provide sufficient releases of water at times, quantities, and duration necessary to avoid jeopardy to endangered fish species and adverse modification of their designated critical habitat in the lower Gunnison River while maintaining the authorized purposes of the Aspinall Unit.

The Upper Colorado River Basin at one time was inhabited by 14 native fish species, four of which are now endangered. These four fish are the Colorado pikeminnow, razorback sucker, bonytail, and humpback chub. They exist only in the Colorado River Basin. The four fish are endangered because of adverse impacts to their habitat over the last 125 years. The two types of habitat impacts that appear to have had the greatest effect have been water development and introduction of non-native fish (McAda, 2003).

Reclamation is required to comply with the Endangered Species Act (ESA) for operation of its facilities, including the Aspinall Unit. Within the exercise of its discretionary authority, Reclamation must avoid jeopardizing the continued existence of listed species and destroying or adversely modifying designated critical habitat.

Background

The Aspinall Unit, located on the Gunnison River in western Colorado, is an authorized storage unit of the Colorado River Storage Project (CRSP). The Aspinall Unit includes three dams and reservoirs (Blue Mesa, Morrow Point, and Crystal) along a 40-mile reach of the Gunnison River. The Aspinall Unit is one of the four key features of the CRSP intended to develop the water resources of the Upper Colorado River Basin and is operated in accordance with the CRSP Act and applicable Reclamation and other Federal laws.

Purpose and Need for Action

Under the proposed action, the Aspinall Unit will be operated to avoid jeopardizing the continued existence of, and assist in the recovery of, the endangered fishes. This will help facilitate future water development to proceed in the Upper Colorado River Basin in compliance with applicable laws, compacts, court decrees, and Indian trust responsibilities. The proposed action is needed because Reclamation is required to comply with the Endangered Species Act for the operation of facilities, including the Aspinall Unit. Within the exercise of its discretionary authority, Reclamation must avoid jeopardizing the continued existence of listed species or adversely modifying designated critical habitat.

Proposed Federal Action

Reclamation proposes to operate the Aspinall Unit to avoid jeopardizing the continued existence of downstream endangered fish species while maintaining and continuing to meet all of the project's authorized purposes. Reclamation would implement the proposed action by modifying the operations of the Aspinall Unit, to the extent possible, to help achieve river flows recommended by the Recovery Program. This change in Aspinall Unit operations would assist in conserving endangered fish in the Gunnison and Colorado rivers and would maintain authorized project purposes.

Hearing Process Information: Oral comments at the hearings will be limited to five minutes. The hearing officer may allow any speaker to provide additional oral comments after all persons wishing to comment have been heard. All comments will be formally recorded. Speakers not present when called will lose their privilege in the scheduled order and will be recalled at the end of the scheduled speakers. Speakers are encouraged to provide written versions of their oral comments, and any other additional written materials, for the hearing/administrative record.

Written comments should be received by Reclamation's Western Colorado Area Office using the contact information provided above no later than Friday, April 24, 2009, for inclusion in the hearing/administrative record. Under the NEPA process, written and oral comments, received by the due date, are given the same consideration. Written comments, Reclamation responses, and public hearing statements (oral comments) will be used in the preparation of the final environmental impact statement.

Public Disclosure

Before including your name, address, phone number, e-mail address, or other personal identifying information in your comment, you should be aware that your entire comment—including your personal identifying information—may be made publicly available at any time. While you can ask us in your comment to withhold your personal identifying information from public review, we cannot guarantee that we will be able to do so.

Dated: January 15, 2009.
Ann Gold,
Acting Regional Director—UC Region.

[FR Doc. E9-2727 Filed 2-12-09; 8:45 am]

BILLING CODE 4310-MN-P